SECURITIES AND EXCHANGE COMMISSION

[Release No. 34-83361]

Order Cancelling Registrations of Certain Transfer Agents

June 1, 2018.

On December 22, 2017, notice was published in the Federal Register that the Securities and Exchange Commission (“Commission”) intended to issue an order, pursuant to Section 17A(c)(4)(B) of the Securities Exchange Act of 1934 (“Act”),¹ cancelling the registrations of certain transfer agents.² For the reasons discussed below, the Commission is cancelling the registration of the transfer agents identified in the attached Appendix.

¹ 15 U.S.C. 78q-1(c)(4)(B).

² Securities Exchange Act Release No. 34-82342 (Dec. 18, 2017), 82 FR 60778.

FOR FURTHER INFORMATION CONTACT: Moshe Rothman, Assistant Director, or Catherine Whiting, Special Counsel, at (202) 551-4990, U.S. Securities and Exchange Commission, Division of Trading and Markets, Room 7321 SP1, 100 F Street NE, Washington, DC 20549-7010 or by email to tradingandmarkets@sec.gov with the phrase “Order Cancelling Transfer Agent Registration” in the subject line.

Background

Section 17A(c)(4)(B) of the Act provides that if the Commission finds that any transfer agent registered with the Commission is no longer in existence or has ceased to do business as a transfer agent, the Commission shall by order cancel that transfer agent's registration. On December 22, 2017, the Commission published notice of its intention to cancel the registration of certain transfer agents whom it believed were no longer in existence or had ceased doing business as transfer agents.³

³ Id.

In the notice, the Commission identified 38 such transfer agents and stated that at any time after January 31, 2018, the Commission intended to issue an order canceling the registrations of any or all of the identified transfer agents. One transfer agent contacted the Commission to object to the cancellation of its registration, stating that it had not ceased doing business as a transfer agent. The Commission has decided not to cancel the registration of that transfer agent. None of the remaining 37 identified transfer agents contacted the Commission to object to the cancellation of their registrations.

Accordingly, the Commission is cancelling the registrations of the 37 transfer agents identified in the Appendix attached to this Order.

Order

On the basis of the foregoing, the Commission finds that each of the transfer agents whose name appears in the attached Appendix either is no longer in existence or has ceased doing business as a transfer agent.

It is therefore ordered pursuant to Section 17A(c)(4)(B) of the Act that the registration as a transfer agent of each of the transfer agents whose name appears in the attached Appendix be and hereby is cancelled.

For the Commission by the Division of Trading and Markets pursuant to delegated authority.⁴
Eduardo A. Aleman,
Assistant Secretary.

⁴ 17 CFR 200.30-3(a)(22).

Appendix

Transfer agent name | File number
AG Transfer Agency LLC | 084-06306
Allied Stock Transfer, Inc. | 084-06171
AlphaMetrix, LLC | 084-06327
Baron Capital Transfer & Registrar LLC | 084-06440
Bluechip Equity Inc. DBA Bluechip Trust Company | 084-06173
Cascade Stock Transfer, Inc. | 084-06204
Centerline Affordable Housing Advisors LLC | 084-01911
Chris Lotito | 084-06197
Clayton Securities Services, Inc. | 084-05425
Demiurgic, Inc. | 084-06274
Elite Transfer Corp | 084-06193
EnDevCo, Inc. | 084-06084
First National Bank of Omaha | 084-06174
First National Bank of Sioux Falls | 084-06228
Fund Dynamics, LLC | 084-06208
Hiko Bell Mining & Oil Company | 084-05445
Holladay Stock Transfer, Inc. | 084-01822
Integrity Stock Transfer | 084-06113
Intercontinental Registrar & Transfer Agency, Inc. | 084-01123
Investor Data Services | 084-01425
Johnson, Lawrence & Associates | 084-05831
Karrison Compagnie Inc. | 084-06046
Life Sciences Research | 084-06094
LM Anderson Securities, LLC | 084-06257
Matrix Capital Group Inc. | 084-06122
Premier Stock Transfer, LLC | 084-06518
Progressive Transfer, Inc. | 084-06268
Quads Trust Company | 084-05621
Repository & Related Services, LLC | 084-06500
Signal Stock Transfer, Inc. | 084-06360
Standard Transfer & Trust Co., Inc. | 084-05819
Superior Stock Transfer, Inc. | 084-06121
Thermal Energy Storage Inc. | 084-01300
U.S. Stock Transfer Corp. | 084-06293
U.S. Trust & Transfer Co. | 084-05663
Valley Forge Management Corp | 084-00012
Wall Street Stock Transfer Corporation | 084-06246

[FR Doc. 2018-12157 Filed 6-5-18; 8:45 am]

BILLING CODE P